DEPARTMENT OF HEALTH AND HUMAN SERVICES

Food and Drug Administration

21 CFR Part 73

[Docket No. FDA-2004-C-0559 (Formerly Docket No. 2004C‐0078)]

Cryovac North America; Withdrawal of Color Additive Petition

AGENCY: Food and Drug Administration, HHS.

ACTION: Notice of withdrawal.

SUMMARY: The Food and Drug Administration (FDA) is announcing the withdrawal, without prejudice to a future filing, of a color additive petition (CAP 4C0276) proposing that the color additive regulations be amended to provide for the safe use of synthetic iron oxide as a color additive in or on cooked meat products.

FOR FURTHER INFORMATION CONTACT: Ellen Anderson, Center for Food Safety and Applied Nutrition (HFS-265), Food and Drug Administration, 5100 Paint Branch Pkwy., College Park, MD 20740-3835, 240-402-1309.

SUPPLEMENTARY INFORMATION: In a notice published in the Federal Register of February 27, 2004 (69 FR 9340), FDA announced that a color additive petition (CAP 4C0276) had been filed by Cryovac North America, c/o Keller and Heckman LLP, 1001 G St. NW., Suite 500 West, Washington, DC 20001. The petition proposed to amend the color additive regulations in 21 CFR part 73 Listing of Color Additives Exempt From Certification to provide for the safe use of synthetic iron oxide as a color additive in or on cooked meat products. Cryovac North America has now withdrawn the petition without prejudice to a future filing (21 CFR 71.6(c)(2)).

Dated: October 19, 2012.
Dennis M. Keefe,
Director, Office of Food Additive Safety, Center for Food Safety and Applied Nutrition.

[FR Doc. 2012-26242 Filed 10-24-12; 8:45 am]

BILLING CODE 4160-01-P